ENVIRONMENTAL PROTECTION AGENCY

[FRL-7606-9]

Notice of Availability of Final Aquatic Life Criteria Document for Tributyltin (TBT)

AGENCY: Environmental Protection Agency (EPA).

ACTION: Notice of availability.

SUMMARY: This notice informs the public of the availability of a final aquatic life criteria document for tributyltin (TBT). The Clean Water Act (CWA) requires the Environmental Protection Agency (EPA) to develop and publish, and from time to time revise, criteria for water accurately reflecting the latest scientific knowledge. When final, these criteria provide EPA's recommendations to States and authorized Tribes as they establish their water quality standards as State or Tribal law or regulation. Once established, an EPA water quality criterion does not substitute for the CWA or EPA regulations, nor is it a regulation. It cannot impose legally binding requirements on the EPA, States, authorized Tribes or the regulated community. State and tribal decision makers have discretion to adopt approaches that differ from EPA's guidance on a case-by-case basis. At this time the Agency is making a final recomendation for TBT.

ADDRESSES: Copies of the criteria document entitled, Ambient Aquatic Life Water Quality Criteria for Tributyltin (TBT)—Final (EPA-822-R-03-031) may be obtained from EPA's Water Resource Center by phone at (202) 566-1729, or by e-mail to center.water.resource@epa.gov or by conventional mail to: EPA Water Resource Center, 4101T, 1200 Pennsylvania Avenue, NW., Washington, DC 20460. You can also download the document from EPA's Web site at http://www.epa.gov/waterscience/criteria/tributyltin/.

FOR FURTHER INFORMATION CONTACT: Frank Gostomski, Health and Ecological Criteria Division (4304T), U.S. EPA, 1200 Pennsylvania Avenue, NW., Washington, DC 20460; (202) 566-1105; gostomski.frank@epa.gov

SUPPLEMENTARY INFORMATION:

I. General Information

A. Interested Entities

Entities potentially interested in today's notice are those that produce, use, or regulate TBT. Categories and entities interested in today's notice include:

Category | Examples of interested entities
State/Local/Tribal Government | States and Tribes
TBT Dischargers | Shipyard repair facilities
TBT Users | Producers of anti-fouling paints

This table is not intended to be exhaustive, but rather provides a guide for readers regarding entities likely to be interested in this notice. This table lists the types of entities that EPA is now aware could potentially be interested in this notice. Other types of entities not listed in the table could also be interested.

B. How Can I Get Copies of This Document and Other Related Information?

1. Docket. EPA has established an official public docket for this notice under Docket ID No. OW-2002-0003. The official public docket consists of the documents specifically referenced in this notice, any scientific views received, and other information related to this notice. Although a part of the official docket, the public docket does not include Confidential Business Information (CBI) or other information whose disclosure is restricted by statute. The official public docket is the collection of materials that is available for public viewing at Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. To view these documents materials, please call ahead to schedule an appointment. Every user is entitled to copy 266 pages per day before incurring a charge. The Docket may charge 15 cents a page for each page over the 266-page limit plus an administrative fee of $25.00.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to view scientific views, access the index listing of the contents of the official public docket, and to access those documents in the public docket that are available electronically. Once in the system, select “search,” then key in the appropriate docket identification number.

II. Background and Today's Notice

A. What Are Recommended Water Quality Criteria?

Recommended water quality criteria are the concentrations of a chemical in water at or below which aquatic life are protected from acute and chronic adverse effects of the chemical. Section 304(a)(1) of the Clean Water Act (CWA) requires EPA to develop and publish, and from time to time revise, criteria for water accurately reflecting the latest scientific knowledge. Water quality criteria developed under section 304(a) are based solely on data and scientific judgments. They do not consider economic impacts or the technological feasibility of meeting the criteria in ambient water. Section 304(a) criteria provide guidance to States and Tribes in adopting water quality standards. The criteria also provide a scientific basis for EPA to develop Federally promulgated water quality standards under section 303(c) of the CWA.

B. What Is Tributyltin (TBT) and Why Are We Concerned About It?

TBT is an organotin compound used primarily as a biocide in antifouling paints. It is extremely toxic to aquatic organisms. Environmental exposure occurs mainly from its application as a biocide in antifouling paints applied to ship hulls to keep barnacles and other fouling organisms from attaching to the hull. TBT remains effective over long periods because it is released from the hull into the water column over time. TBT is extremely stable and resistant to natural degradation in water. Because of TBT's high toxicity and the potential exposure of aquatic organisms to it, EPA has developed ambient water quality criteria for it.

C. What Are the National Recommended Water Quality Criteria for TBT?

Freshwater

Aquatic life should not be affected unacceptably if the: One-hour average concentration of TBT does not exceed 0.46 ug/l more than once every three years on the average (Acute Criterion); and Four-day average concentration of TBT does not exceed 0.072 ug/l more than once every three years on the average (Chronic Criterion).

Saltwater

Aquatic life should not be affected unacceptably if the: One-hour average concentration of TBT does not exceed 0.42 ug/l more than once every three years on the average (Acute Criterion); and Four-day average concentration of TBT does not exceed 0.0074 ug/l more than once every three years on the average (Chronic Criterion).

D. Why Is EPA Notifying the Public About the Final TBT Criteria Document?

Today, EPA is notifying the public that this final aquatic life criteria document for TBT is available. In the Federal Register on August 7, 1997 (62 FR 42554), EPA notified the public that a draft aquatic life criteria document for TBT was available and solicited scientific input. Based on the information and data submitted, EPA updated the draft document and made revised criteria available to the public for scientific input in a Federal Register notice on December 27, 2002 (67 FR 79090). EPA is now making the final aquatic life criteria document for TBT available to the public.

E. Where Can I Find More Information on EPA's Revised Process for Developing New or Revised Criteria?

The Agency published detailed information about its revised process for developing and revising criteria in the Federal Register on December 10, 1998 (63 FR 68354), and in the EPA document entitled, National Recommended Water Quality—Correction (EPA 822-Z-99-001, April 1999). The purpose of the revised process is to provide expanded opportunities for public input, and to make the criteria development process more efficient.

Dated: December 23, 2003.
Geoffrey H. Grubbs,
Director, Office of Science and Technology.

[FR Doc. 04-82 Filed 1-2-04; 8:45 am]

BILLING CODE 6560-50-P